DEPARTMENT OF LABOR

Bureau of Labor Statistics

Proposed Collection, Comment Request

AGENCY: Bureau of Labor Statistics, DOL.

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed revision of the “National Compensation Survey.” A copy of the proposed information collection request (ICR) can be obtained by contacting the individual listed below in the ADDRESSES section of this notice.

DATES: Written comments must be submitted to the office listed in the ADDRESSES section of this notice on or before August 13, 2004.

ADDRESSES: Send comments to Amy A. Hobby, BLS Clearance Officer, Division of Management Systems, Bureau of Labor Statistics, Room 4080, 2 Massachusetts Avenue, NE., Washington, DC 20212, telephone number 202-691-7628 (this is not a toll free number).

FOR FURTHER INFORMATION CONTACT: Amy A. Hobby, BLS Clearance Officer, telephone number 202-691-7628. (See ADDRESSES section.)

SUPPLEMENTARY INFORMATION:

I. Background

The National Compensation Survey (NCS) is an ongoing survey of earnings and benefits among private firms, State, and local government. The NCS resulted from the merger of three surveys: The NCS earnings and work level data (formerly the Occupational Compensation Survey Program), the Employment Cost Index (ECI), and the Employee Benefits Survey (EBS). Data from these surveys are critical for setting Federal white-collar salaries, determining monetary policy (as a Principal Federal Economic Indicator), and for compensation administrators and researchers in the private sector.

The survey will collect data from a sample of employers. These data will consist of information about the duties, responsibilities, and compensation (earnings and benefits) for a sample of occupations for each sampled employer.

Data will be updated on either an annual or quarterly basis. The updates will allow for production of data on change in earnings and total compensation.

II. Desired Focus of Comments

The Bureau of Labor Statistics is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Action

Office of Management and Budget clearance is being sought for the National Compensation Survey.

The NCS collects earnings and work level data on occupations for the nation and selected localities. The NCS also collects information on the cost, provisions, and incidence of all the major employee benefits through its benefit cost (ECI) and benefit provision (EBS) programs. The NCS is currently phasing out any non-integrating data collection. This change to the NCS sample has helped to lower total respondent burden and increase the number of possible ways the BLS can provide data.

The NCS data on benefit costs will continue to be used to produce the ECI and Employer Expenditures for Employee Compensation Series. The data provided will be the same, and the series will be continuous.

The NCS will continue to provide all of the benefit provision and participation data now collected. These data include estimates of how many workers receive the various employer-sponsored benefits. The data also will include information about the common provisions of benefit plans.

Type of Review: Revision of a currently approved collection.

Agency: Bureau of Labor Statistics.

Title: National Compensation Survey.

OMB Number: 1220-0164.

Affected Public: Businesses or other for-profit; not-for-profit institutions; and State, local, and tribal government.

Total Respondents: 41,776 (three-year average).

Frequency: Quarterly, annually.

Total Responses: 75,207 (three-year average).

Estimated Total Burden Hours: 57,934.

All figures in the table below are based on a three-year average. The total respondents and total responses in the table are greater than the figures shown above because many respondents are asked to provide information relating to more than one form.

Collection forms can have multiple uses. The table below shows the average collection times for the predominant uses of the forms. Record checks (for quality assurance and measurement) are done on a sub-sample of respondents verifying responses for pre-selected sections of the forms. The collection times for the NCS government-only forms are zero for FY 2005 and FY 2006 because they are for initiation of new government sample units and the current NCS governments sample is frozen. A new government sample will be initiated in FY 2007.

Table 1.—Annual Respondent Burden by Form
[Average of FY 2005, FY 2006, and FY 2007]
Form | Total respondents for forms | Frequency | Total responses for forms | Average minutes for the predominant form use | Estimated total burden hours
Government Establishment Collection Form (NCS Form 04-1G) | 1533 | Annually or Quarterly | 1533 | 19 | 486
Private Establishment Collection Form (NCS Form 04-1P) | 4148 | Annually or Quarterly | 4148 | 19 | 1314
Government Earning Form (NCS Form 04-2G) | 1533 | Annually or Quarterly | 1533 | 20 | 511
Private Earning Form (NCS Form 04-2P) | 4148 | Annually or Quarterly | 4148 | 20 | 1383
Computer Generated Earnings Update Form | 29465 | Annually or Quarterly | 62896 | 20 | 20965
Government Work Level Form (NCS Form 04-3G) | 1533 | Annually or Quarterly | 1533 | 25 | 639
Private Work Level Form (NCS FORM 04-3P) | 4148 | Annually or Quarterly | 4148 | 25 | 1728
Government Work Schedule Form (NCS 04-4G) | 1533 | Annually or Quarterly | 1533 | 10 | 256
Private Work Schedule Form (NCS 04-4P) | 4148 | Annually or Quarterly | 4148 | 10 | 691
Government Benefits Collection Form (NCS 04-5G) | 660 | Annually or Quarterly | 660 | 180 | 1980
Private Benefits Collection Form (NCS 04-5P) | 2150 | Annually or Quarterly | 2150 | 180 | 6450
Summary of Benefits (Benefit update form SO-1003) is computer generated | 14808 | Quarterly | 47510 | 15-20 | 15661
Collection not tied to a specific form (testing, QA/QM, etc.) | 8777 | Unknown | 8777 | 5-60 | 5780
Totals | 77,856 |  | 144,717 |  | 57,934

Total Burden Cost (capital/startup): $0.

Total Burden Cost (operating/maintenance): $0.

Comments submitted in response to this notice will be summarized and/or included in the request for Office of Management and Budget approval of the information collection request; they also will become a matter of public record.

Signed at Washington, DC, this 3rd day of June, 2004.
Jesús Salinas,
Acting Chief, Division of Management Systems, Bureau of Labor Statistics.

[FR Doc. 04-13261 Filed 6-10-04; 8:45 am]

BILLING CODE 4510-24-P